DEPARTMENT OF ENERGY

Federal Energy Regulatory Commission

[Docket No. CP08-456-000]

CenterPoint Energy Gas Transmission Company; Notice of Request Under Blanket Authorization

August 7, 2008.

Take notice that on August 5, 2008, CenterPoint Energy Gas Transmission Company (CenterPoint), 1111 Louisiana Street, Houston, Texas, filed in Docket No. CP08-456-000 a prior notice request pursuant to sections 157.205 of the Commission's regulations under the Natural Gas Act (NGA), and CenterPoint's blanket certificate issued in Docket No. CP82-384-000 on September 1, 1982,¹ and amended in Docket No. CP82-384-001 on February 10, 1983.² CenterPoint seeks authorization to construct a new interconnection with Texas Gas Transmission, LLC (Texas Gas), which will include the installation of a new compressor station, in White County, Arkansas, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

¹ 20 FERC ¶ 62,408 (1982).

² 22 FERC ¶ 61,148 (1983).

Specifically, CenterPoint proposes to construct, own and operate the Searcy Interconnection comprised of a 16-inch tap, one 2,370 horsepower (hp) Caterpillar G3608 compressor package, one 237 hp Generac 150 KW standby generator, suction and discharge piping, and ancillary equipment, all in a 9-acre fenced area within an 18.5 acre parcel of land on and adjacent to CenterPoint's Line J. The project has an estimated cost of $13,213,955. The initial peak day design capacity is 125,000 Dekatherms per day. The project will provide firm transportation from existing and future receipt points on CenterPoint's system in northern Arkansas to the Fayetteville Lateral currently being constructed by Texas Gas.

Any questions regarding this application should be directed to B. Michelle Willis, Supervisor—Rate & Regulatory, CenterPoint Energy Gas Transmission Company, P.O. Box 21734, Shreveport, Louisiana 71151, or call (318) 429-2804, FAX (318) 429-3133, e-mail michelle.willis@centerpointenergy.com.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link. Persons unable to file electronically should submit an original and 14 copies of the protest or intervention to the Federal Energy regulatory Commission, 888 First Street, NE., Washington, DC 20426.

Comment Date: October 6, 2008.

Kimberly D. Bose,
Secretary.

[FR Doc. E8-18728 Filed 8-12-08; 8:45 am]

BILLING CODE 6717-01-P